ENVIRONMENTAL PROTECTION AGENCY

40 CFR Part 281

[EPA-R10-UST-2011-0097; FRL-9274-8]

Oregon: Tentative Approval of State Underground Storage Tank Program

AGENCY: Environmental Protection Agency (EPA).

ACTION: Proposed rule.

SUMMARY: The State of Oregon has applied for final approval of its Underground Storage Tank (UST) Program under Subtitle I of the Resource Conservation and Recovery Act (RCRA). EPA has reviewed Oregon's application and made the tentative decision that the State's UST program satisfies all requirements necessary to qualify for final approval. Today's Federal Register notice solicits comments on the proposed rule.

DATES: Comments and/or request for a public hearing on this determination must be received on or before April 1, 2011. A public hearing will be held on April 13, 2011 from 9 a.m.-12 p.m. at the United States Environmental Protection Agency, 805 SW. Broadway, Suite 500, Portland, Oregon 97205, unless insufficient public interest is expressed in holding a hearing. EPA reserves the right to cancel the public hearing if sufficient public interest in a hearing is not communicated to EPA in writing by April 1, 2011. EPA will determine by April 11, 2011, whether there is sufficient interest to warrant a public hearing. The State of Oregon will be invited to participate in any public hearing held by EPA on this subject. Please see SUPPLEMENTARY INFORMATION, Item C, for details.

ADDRESSES: Submit your comments, identified by Docket ID No. EPA-R10-UST-2011-0097, by one of the following methods:

• http://www.regulations.gov. Follow the online instructions for submitting comments.

• E-mail: griffith.katherine@epa.gov.

• Mail: Katherine Griffith, U.S. Environmental Protection Agency, Region 10, 1200 Sixth Avenue, Suite 900, Mail Stop: OCE-082, Seattle, WA 98101.

Instructions: Direct your comments to Docket ID No. EPA-R10-UST-2011-0097. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identify or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters or any form of encryption, and be free of any defects or viruses. For additional information about EPA's public docket, visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy.

Please see SUPPLEMENTARY INFORMATION, Item D, for details on the location of the documents in hard copy form.

FOR FURTHER INFORMATION CONTACT: Katherine Griffith, U.S. Environmental Protection Agency, Region 10, 1200 Sixth Avenue, Suite 900, Mail Stop: OCE-082, Seattle, WA 98101, phone number: (206) 553-2901, e-mail: griffith.katherine@epa.gov.

SUPPLEMENTARY INFORMATION:

A. Background

Section 9004 of RCRA enables EPA to approve implementation of State UST programs in lieu of the Federal UST program. Approval is granted when it has been determined that the State program: (1) Is no less stringent than the overall Federal program and includes the notification requirements of Section 9004(a)(8), 42 U.S.C. 6991c(a)(8), and (2) provides for adequate enforcement of compliance with UST standards of Section 9004(a), 42 U.S.C. 6991c(a).

B. State of Oregon

The Oregon Department of Environmental Quality (ODEQ) is the lead implementing agency for the UST program in Oregon. ODEQ has broad statutory authority to regulate UST releases under Oregon Revised Statutes, Chapter 183, Administrative Procedures Act, Section 310-750; Chapter 465, Hazardous Waste and Hazardous Materials I (Removal or Remedial Action); Chapter 466, Hazardous Waste and Hazardous Materials II (Oil Storage Tanks); and Chapter 468, Environmental Quality Generally (Enforcement and Audit Privilege). Specific authority to regulate the installation, operation, maintenance, and closure of USTs is found under ODEQ Administrative Rules Chapter 340, Divisions 11, 12, 122, 150, 151, 160, 162, and 163.

Oregon is not authorized to carry out its UST program in Indian Country. This includes all lands within the exterior boundaries of the Grande Ronde, Klamath, Siletz, Umatilla and Warm Springs Reservations; any land held in trust by the United States for an Indian tribe, and any other lands that are Indian Country within the meaning of 18 U.S.C. 1151.

C. Requesting a Hearing

Any request for a public hearing shall include: (1) The name, address, and telephone number of the individual, organization, or other entity requesting a hearing, (2) a brief statement of the requester's interest in the Regional Administrator's determination and of information that he/she intends to submit at such hearing, (3) the signature of the requester or responsible official, if made on behalf of an organization or other entity, and (4) the associated Docket ID Number.

It is EPA's policy to make reasonable accommodation to persons with disabilities wishing to participate in the Agency's programs and activities, pursuant to the Rehabilitation Act of 1973, 29 U.S.C. 791, et seq. Any request for accommodation should be made to Katherine Griffith, (206) 553-2901, preferably a minimum of two weeks in advance of the public hearing date, so that EPA will have sufficient time to process the request.

Frivolous or insubstantial requests for a hearing may be denied by the RA. However, if a substantial request is made within thirty (30) days after this notice, a public hearing will be held. Please bring this notice to the attention of any persons known by you to have an interest in this determination.

D. Location of Documents

All documents that are in the electronic docket are also available in hard copy during normal business hours at the following locations:

1. U.S. Environmental Protection Agency, Library, Region 10, 1200 Sixth Avenue, Suite 900, Seattle, WA 98101 from 9 a.m. to 12 p.m. and 1 p.m. to 4 p.m.

2. Oregon Department of Environmental Quality, 811 SW. Sixth Avenue, Portland, OR 97204 from 10 a.m. to 12 p.m. and 1 p.m. to 4 p.m.

3. Oregon Department of Environmental Quality, 2146 NE. 4th, Suite 104, Bend, OR 97701 from 10 a.m. to 12 p.m. and 1 p.m. to 4 p.m.

4. Oregon Department of Environmental Quality, 700 SE. Emigrant, Suite 330, Pendleton, OR 97801 from 10 a.m. to 12 p.m. and 1 p.m. to 4 p.m.; and

5. Oregon Department of Environmental Quality, 221 Stewart Ave, Suite 201, Medford, OR 97501 from 10 a.m. to 12 p.m. and 1 p.m. to 4 p.m.

E. Statutory and Executive Order (EO) Review

This proposed rule only applies to Oregon's UST Program requirements pursuant to RCRA Section 9004 and imposes no requirements other than those imposed by State law. It complies with applicable EOs and statutory provisions as follows:

1. Executive Order 12866

The Office of Management and Budget (OMB) has exempted this rule from its review under Executive Order 12866.

2. Paperwork Reduction Act

This proposed action does not impose an information collection burden under the provisions of the Paperwork Reduction Act, 44 U.S.C. 3501 et seq., because this proposed rule does not establish or modify any information or recordkeeping requirements for the regulated community and only seeks to authorize the pre-existing requirements under State law and imposes no additional requirements beyond those imposed by State law. Burden means the total time, effort, or financial resources expended by persons to generate, maintain, retain, or disclose or provide information to or for a Federal agency. This includes the time needed to review instructions; develop, acquire, install, and utilize technology and systems for the purposes of collecting, validating, and verifying information, processing, and maintaining information, and disclosing and providing information; adjust the existing ways to comply with any previously applicable instructions and requirements; train personnel to be able to respond to a collection of information; search data sources; complete and review the collection of information; and transmit or otherwise disclose the information. An Agency may not conduct or sponsor, and a person is not required to respond to, a collection of information unless it displays a currently valid OMB control number. The OMB control numbers for EPA's regulations in title 40 of the CFR are listed in 40 CFR part 9.

3. Regulatory Flexibility Act

The Regulatory Flexibility Act (RFA) generally requires Federal agencies to prepare a regulatory flexibility analysis of any rule subject to notice and comment rulemaking requirements under the Administrative Procedure Act or any other statute unless the agency certifies that the rule will not have a significant economic impact on a substantial number of small entities. Small entities include small businesses, small organizations, and small governmental jurisdictions. For purposes of assessing the impacts of today's proposed rule on small entities, small entity is defined as: (1) A small business defined by the Small Business Administration's size regulations at 13 CFR 121.201; (2) a small governmental jurisdiction that is a government of a city, county, town, school district, or special district with a population of less than 50,000; and (3) a small organization that is any not-for-profit enterprise which is independently owned and operated and is not dominant in its field. I certify that this proposed rule will not have a significant economic impact on a substantial number of small entities because the proposed rule will only have the effect of authorizing pre-existing requirements under State law and imposes no additional requirements beyond those imposed by State law. EPA continues to be interested in the potential impacts of the proposed rule on small entities and welcomes comments on issues related to such impacts.

4. Unfunded Mandates Reform Act

This proposed rule does not have any impacts as described in the Unfunded Mandates Reform Act because this rule codifies pre-existing requirements under State law and does not impose any additional enforceable duty beyond that required by State law. It does not contain any unfunded mandates or significantly or uniquely affects small governments.

5. Executive Order 13132: Federalism

This proposed rule does not have Federalism implications. It will not have substantial direct effects on the States, on the relationship between the national government and the States, or on the distribution of power and responsibilities among various levels of government, as specified in Executive Order 13132 (64 FR 43255, August 10, 1999). This rule proposes to authorize pre-existing State rules. Thus, Executive Order 13132 does not apply to this proposed rule. In the spirit of Executive Order 13132, and consistent with EPA policy to promote communications between EPA and State and local governments, EPA specifically solicits comment on this proposed rule from State and local officials.

6. Executive Order 13175: Consultation and Coordination With Indian Tribal Governments

Executive Order 13175, entitled “Consultation and Coordination with Indian Tribal Governments” (59 FR 22951, November 9, 2000), requires EPA to develop an accountable process to ensure “meaningful and timely input by tribal officials in the development of regulatory policies that have tribal implications.” This proposed rule does not have tribal implications, as specified in Executive Order 13175 because EPA retains its authority over Indian Country. Thus, Executive Order 13175 does not apply to this proposed rule. EPA specifically solicits additional comment on this proposed rule from tribal officials.

7. Executive Order 13045: Protection of Children From Environmental Health and Safety Risks

EPA interprets Executive Order 13045 (62 FR 19885, April 23, 1997) as applying only to those regulatory actions that concern health or safety risks, such that the analysis required under section 5-501 of the Executive Order has the potential to influence the regulation. This action is not subject to Executive Order 13045 because it proposes to approve a state program.

8. Executive Order 13211: Actions That Significantly Affect Energy Supply, Distribution, or Use

This proposed rule is not subject to Executive Order 13211, “Actions Concerning Regulations that Significantly Affect Energy Supply, Distribution, or Use” (66 FR 28355, May 22, 2001) because it is not a “significant regulatory action” as defined under Executive Order 12866.

9. National Technology Transfer and Advancement Act

Section 12(d) of the National Technology Transfer and Advancement Act of 1995 (“NTTAA”), Public Law 104-113, section 12(d) (15 U.S.C. 272), directs EPA to use voluntary consensus standards in its regulatory activities unless to do so would be inconsistent with applicable law or otherwise impractical. Voluntary consensus standards are technical standards (e.g., materials specifications, test methods, sampling procedures, and business practices) that are developed or adopted by voluntary consensus bodies. The NTTAA directs EPA to provide Congress, through OMB, explanations when the Agency decides not to use available and applicable voluntary consensus standards. This proposed rulemaking does not involve technical standards. Therefore, EPA is not considering the use of any voluntary consensus standards.

10. Executive Order 12898: Federal Actions To Address Environmental Justice in Minority Populations and Low Income Populations

Executive Order 12898 (59 FR 7629, February 16, 1994) establishes Federal executive policy on environmental justice. Its main provision directs Federal agencies, to the greatest extent practicable and permitted by law, to make environmental justice part of their mission by identifying and addressing, as appropriate, disproportionately high and adverse human health or environmental effects of their programs, policies, and activities on minority populations and low-income populations in the United States. EPA has determined that this proposed rule will not have disproportionately high and adverse human health or environmental effects on minority or low-income populations. This proposed rule does not affect the level of protection provided to human health or the environment because this rule proposes to authorize pre-existing State rules which are no less stringent than existing Federal requirements.

List of Subjects in 40 CFR Part 281

Environmental protection, Administrative practice and procedure, Hazardous materials, Intergovernmental relations, Reporting and recordkeeping requirements.

Authority: This notice is issued under the authority of Sections 2002(a), 7004(b), and 9004 of the Solid Waste Disposal Act, as amended, 42 U.S.C. 6912(a), 6974(b), and 6991c.

Dated: February 23, 2011.
Michelle L. Pirzadeh,
Acting Regional Administrator, Region 10.

[FR Doc. 2011-4640 Filed 3-1-11; 8:45 am]

BILLING CODE 6560-50-P